DEPARTMENT OF JUSTICE

Notice of Lodging Proposed Consent Decree

In accordance with Departmental Policy, 28 CFR 50.7, notice is hereby given that a proposed Consent Decree in United States v. William Case, Bill Case Farms, Inc., and Case Family, LLC, Civil Action No. 6:16-cv-00328-AA, was lodged with the United States District Court for the District of Oregon on April 8, 2020.

This proposed Consent Decree concerns a complaint filed by the United States against William Case, Bill Case Farms, Inc., and Case Family, LLC, pursuant to Clean Water Act Section 309, 33 U.S.C. 1319, to obtain injunctive relief from and impose civil penalties against the Defendants for violating the Clean Water Act by discharging pollutants without a permit into waters of the United States. The proposed Consent Decree resolves these allegations by requiring the Defendants to restore the impacted areas, perform mitigation, and pay a civil penalty.

The Department of Justice will accept written comments relating to this proposed Consent Decree for thirty (30) days from the date of publication of this Notice. Please address comments to Kent E. Hanson, United States Department of Justice, Environment and Natural Resources Division, Environmental Defense Section, Post Office Box 7611, Washington, DC 20044-7611, and refer to United States v. William Case, et al., DJ # 90-5-1-1-19671.

The proposed Consent Decree may be examined electronically at http://www.justice.gov/enrd/consent-decrees. Upon request, an electronic copy of the proposed Consent Decree may be sent by email. Please send your request to kent.hanson@usdoj.gov.

Cherie Rogers,
Assistant Section Chief,Environmental Defense Section, Environment and Natural Resources Division.

[FR Doc. 2020-08079 Filed 4-16-20; 8:45 am]

BILLING CODE 4410-15-P